DEPARTMENT OF EDUCATION

Safe and Drug-Free Schools Programs, Final Priority and Other Application Requirements

AGENCY: Office of Safe and Drug-Free Schools, Department of Education.

ACTION: Notice of final priority and other application requirements.

SUMMARY: The Assistant Deputy Secretary for Safe and Drug-Free Schools announces a priority and other application requirements under the Emergency Response and Crisis Management Grants program. We may use this priority and these application requirements for competitions in fiscal year (FY) 2005 and later years. We take this action to focus Federal financial assistance on an identified national need. We intend the priority to support grants to local educational agencies (LEAs) to improve and strengthen emergency response and crisis management plans.

EFFECTIVE DATE: The priority and other application requirements are effective July 21, 2005.

FOR FURTHER INFORMATION CONTACT: Sara Strizzi, U.S. Department of Education, 400 Maryland Avenue, SW., Room 3E320, Washington, DC 20202. Telephone: (202) 708-4850 or via Internet: sara.strizzi@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION: The events of September 11, 2001, made schools and communities aware that, in addition to planning for traditional crises and emergencies, schools must now plan to respond to possible terrorist attacks on campus or in the community. The purpose of this program is to support LEA projects to improve and strengthen emergency response and crisis management plans, at the district and school-building level, addressing the four phases of crisis planning: Prevention/Mitigation, Preparedness, Response, and Recovery. Plans must include: (1) training for school personnel and students in emergency response procedures; (2) coordination with local law enforcement, public safety, public health, and mental health agencies; and (3) a method for communicating school emergency response policies and reunification procedures to parents and guardians.

We published a notice of proposed priority and other application requirements for this program in the Federal Register on April 14, 2005 (70 FR 19736).

Analysis of Comments and Changes

In response to our invitation in the notice of proposed priority and other application requirements, three parties submitted comments on the proposed priority and application requirements. An analysis of the comments and of any changes in the priority and other application requirements since publication of the notice of proposed priority and other application requirements follows.

Generally, we do not address technical and other minor changes and suggested changes the law does not authorize us to make under the applicable statutory authority.

Comment: One commenter requested clarification regarding the implementation date of September 30, 2005 for requirements under the National Incident Management System (NIMS). The commenter noted that the proposed July 29, 2005 application due date does not allow adequate time to complete implementation of the NIMS requirements by September 30, 2005.

Discussion: The Department of Homeland Security (DHS) has established minimum NIMS compliance activities and deadlines for the State, territorial, and local levels for FY 2005, which ends on September 30, 2005. The activities and deadlines listed in the notice of proposed priority and other application requirements reflected these requirements. However, as FY 2005 is a start-up year for NIMS implementation, full compliance with the NIMS is not a requirement to receive FY 2005 grant funds. LEAs that have not completed all FY 2005 NIMS requirements by September 30, 2005 should leverage preparedness assistance to complete NIMS implementation by September 30, 2006.

Change: We have revised the priority to clarify NIMS implementation deadlines. The priority now allows for LEAs that have not completed all FY 2005 NIMS requirements by September 30, 2005 to complete implementation of the requirements during FY 2006.

Comment: One commenter suggested substituting “local public health agencies” for “local health agencies” in the priority and application requirements.

Discussion: We agree that the priority and other application requirements would be clearer with the change recommended by the commenter. The term “public health” is used consistently at the Federal, State, and local levels to describe an agency or entity that performs essential functions including public health programs, activities, or services. Public health agencies are directly responsible for critical aspects related to emergency planning and response. According to DHS, public health agencies are the primary entities responsible for conducting one or more of the following functions or activities: monitoring health status to identify community health problems; diagnosing and investigating health problems and health hazards in the community; informing, educating and empowering people about health issues; mobilizing community partnerships to identify and solve health problems; developing policies and plans that support individual and community health efforts; enforcing laws and regulations that protect health and ensure safety; evaluating the effectiveness, accessibility, and quality of personal and population-based health services; and researching for new insights and innovative solutions to health problems. The term “public health agencies” more accurately reflects the role of the health care system in emergency planning and response.

Change: We have substituted “local public health agencies” for “local health agencies” in the priority and application requirements.

Comment: One commenter suggested that the priority allow for funding State educational agencies (SEAs) in order to encourage standardization and involvement at the State level as well as the local level.

Discussion: Generally, we believe that LEAs are better positioned to support the development of emergency response and crisis management plans that are specific to individual school sites—the primary focus of this grant program. LEAs must identify local first responders and mental health professionals to help schools respond to crises and to support students and their families and staff in the recovery process. LEAs also work with schools directly in developing plans that address unique local threats and conditions. While some issues associated with response and recovery lend themselves to a degree of standardization (for example selection of communication equipment and communication protocols), even standardized processes or plans must be modified to address unique local needs and issues. We believe that SEAs have a very significant and valuable role to play in the development of Statewide or regional protocols, practices, and templates related to crisis prevention, response and recovery, but that those plans must be adapted and practiced at the LEA and school building level if they are to provide school personnel and other first responders with the skills and confidence they need to effectively manage a crisis situation. We encourage SEAs to work in collaboration with individual districts and to provide guidance as needed.

Change: None.

Note: This notice does not solicit applications. In any year in which we choose to use this priority and other application requirements, we invite applications through a notice in the Federal Register. When inviting applications we designate the priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priority

Improvement and Strengthening of School Emergency Response and Crisis Management Plans

The priority supports local educational agency (LEA) projects to improve and strengthen emergency response and crisis management plans, at the district and school-building level addressing the four phases of crisis planning: Prevention/Mitigation, Preparedness, Response, and Recovery. Plans must include: (1) Training for school personnel and students in emergency response procedures; (2) coordination with local law enforcement, public safety, public health, and mental health agencies; and (3) a method for communicating school emergency response policies and reunification procedures to parents and guardians.

Other Application Requirements

1. Partner Agreements. To be considered for a grant award, an applicant must include in its application an agreement that details the participation of each of the following five community-based partners: Law enforcement, public safety, public health, mental health, and the head of the applicant's local government (for example the mayor, city manager, or county executive). The agreement must include a description of each partner's roles and responsibilities in improving and strengthening emergency response plans at the district and school-building level, a description of each partner's commitment to the continuation and continuous improvement of emergency response plans at the district and school-building level, and an authorized signature representing the LEA and each partner acknowledging the agreement. If one or more of the five partners listed is not present in the applicant's community, or cannot feasibly participate, the agreement must explain the absence of each missing partner. To be considered eligible for funding, however, an application must include a signed agreement between the LEA, a law enforcement partner, and at least one of the other required partners (public safety, public health, mental health, or head of local government).

Applications that fail to include the required agreement, including information on partners' roles and responsibilities and on their commitment to continuation and continuous improvement (with signatures and explanations for missing signatures as specified above), will not be read.

Although this program requires partnerships with other parties, administrative direction and fiscal control for the project must remain with the LEA.

2. Coordination with State or Local Homeland Security Plan. All emergency response and crisis management plans must be coordinated with the Homeland Security Plan of the State or locality in which the LEA is located. All States submitted such a plan to the Department of Homeland Security on January 30, 2004. To ensure that emergency services are coordinated, and to avoid duplication of effort within States and localities, applicants must include in their applications an assurance that the LEA will coordinate with, and follow, the requirements of their State or local Homeland Security Plan for emergency services and initiatives.

3. Support of the National Incident Management System. Applicants also must agree to support the implementation of the National Incident Management System (NIMS). In accordance with Homeland Security Presidential Directive/HSPD-5, the NIMS provides a consistent approach for Federal, State, and local governments to work effectively and efficiently together to prepare for, prevent, respond to, and recover from domestic incidents, regardless of cause, size, or complexity.

LEAs, working in collaboration with State and local resources, are encouraged to achieve full NIMS implementation by September 30, 2005. To the extent that full compliance is not possible by September 30, 2005, LEAs, working in coordination with State and local resources, should leverage federal preparedness assistance to complete NIMS implementation by September 30, 2006. To be considered eligible for funding, an application must include an assurance that the LEA has completed, or will complete by September 30, 2006, the following steps to support NIMS implementation:

• Administer the NIMS Awareness Course: “National Incident Management System (NIMS), An Introduction” (IS 700) to key district and school staff. This independent study course, developed by the Emergency Management Institute (EMI), explains the purpose, principles, key components, and benefits of the NIMS. The course is available online and will take between forty-five minutes to three hours to complete. The course is available on the EMI Web site at: http://training.fema.gov/EMIWeb/IS/is700.asp

• Formally recognize the NIMS and adopt NIMS principles and policies. Districts and/or their local government should establish an executive order, resolution, or ordinance to formally adopt the NIMS.

• Establish a NIMS baseline to determine which NIMS requirements have been met by the LEA. Districts should coordinate with their community partners to assess the district's overall compliance with the NIMS, and determine gaps in compliance that need to be closed in order to reach full implementation of the NIMS.

• Establish a timeframe and strategy for full NIMS implementation.

• Establish the use of the Incident Command System (ICS). The ICS has been established by the NIMS as the standardized incident organizational structure for the management of all incidents. Districts should coordinate with community partners listed above in institutionalizing the use of the ICS in a manner that is consistent with the concepts and principles in the NIMS.

Note: Since LEAs are integral to local governments, an LEA's NIMS compliance must be achieved in close coordination with the local government and with recognition of the first responder capabilities held by the LEA and the local government. As LEAs are not traditional response organizations, first responder services will typically be provided to LEAs by local fire and rescue departments, emergency medical service providers, and law enforcement agencies. This traditional relationship must be acknowledged in achieving NIMS compliance in an integrated NIMS compliance plan for the local government and the LEA. LEA participation in the NIMS preparedness program of the local government is essential to ensure that first responder services are delivered to schools in a timely and effective manner. Additional information about NIMS implementation is available at http://www.fema.gov/nims.

4. Individuals with Disabilities. The applicant's plan must demonstrate that the applicant has taken into consideration the communication, transportation, and medical needs of individuals with disabilities within the school district.

Executive Order 12866

This notice of final priority and other application requirements has been reviewed in accordance with Executive Order 12866. Under the terms of the order, we have assessed the potential costs and benefits of this regulatory action.

The potential costs associated with the notice of final priority are those resulting from statutory requirements and those we have determined as necessary for administering this program effectively and efficiently.

In assessing the potential costs and benefits—both quantitative and qualitative—of this notice of final priority and other application requirements, we have determined that the benefits of the final priority and other application requirements justify the costs.

We have also determined that this regulatory action does not unduly interfere with State, local, and tribal governments in the exercise of their governmental functions.

We summarized the costs and benefits in the notice of proposed priority and other application requirements.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

You may also view this document in text or PDF at the following sites: http://www.ed.gov/emergencyplan, http://www.ed.gov/programs/dvpemergencyresponse/index.html.

Note: The official version of this document is the document published in the Federal Register. Free Internet access to the official edition of the Federal Register and the Code of Federal Regulations is available on GPO Access at: http://www.gpoaccess.gov/nara/index.html.

(Catalog of Federal Domestic Assistance Number 84.184.E-Emergency Response and Crisis Management Grant program.)

Program Authority: 20 U.S.C. 7131.

Dated: June 16, 2005.
Deborah A. Price,
Asistant Deputy Secretary for Safe and Drug-Free Schools.

[FR Doc. 05-12225 Filed 6-20-05; 8:45 am]

BILLING CODE 4000-01-P